DEPARTMENT OF COMMERCE

National Oceanic and Atmospheric Administration

[I.D. 011100E]

Magnuson-Stevens Act Provisions; Atlantic Highly Migratory Species; Exempted Fishing and Scientific Research Permits

AGENCY: National Marine Fisheries Service (NMFS), National Oceanic and Atmospheric Administration (NOAA), Commerce.

ACTION: Applications for Exempted Fishing and Scientific Research Permits; request for comments.

SUMMARY: NMFS announces the receipt of applications for exempted fishing permits (EFPs) and scientific research permits (SRPs) regarding collection of Atlantic highly migratory species. If granted, these EFPs/SRPs would authorize collections of a limited number of tunas, swordfish, billfish, and sharks from Federal waters in the Atlantic Ocean for the purposes of scientific data collection and public display.

DATES: Written comments on these collection and research activities will be considered by NMFS in issuing such EFPs/SRPs if received on or before January 31, 2000.

ADDRESSES: Send comments to Rebecca Lent, Chief, Highly Migratory Species Management Division (F/SF1), NMFS, 1315 East-West Highway, Silver Spring, MD 20910. The EFP/SRP applications and copies of the regulations under which EFPs/SRPs are issued may also be requested from this address. Comments also may be sent via facsimile (fax) to (301) 713-1917. Comments will not be accepted if submitted via e-mail or Internet.

FOR FURTHER INFORMATION CONTACT: Sari Kiraly or Steve Meyers, 301-713-2347; fax: 301-713-1917.

SUPPLEMENTARY INFORMATION: EFPs and SRPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic highly migratory species.

Issuance of EFPs and/or SRPs may be necessary because possession of certain shark species is prohibited, possession of billfish on board commercial fishing vessels is prohibited, and because the commercial fisheries for bluefin tuna, swordfish and large coastal sharks may be closed for extended periods during which collection of live animals and/or biological samples would otherwise be prohibited. In addition, NMFS regulations at 50 CFR 635.32 regarding implantation or attachment of archival tags in Atlantic highly migratory species require prior authorization and a report on implantation activities.

NMFS seeks public comment on its intention to issue EFPs for the purpose of collecting biological samples under at-sea fisheries observer programs. NMFS intends to issue EFPs to any NMFS or NMFS-approved observer to bring onboard and possess, for scientific research purposes (e.g., biological sampling, measurement, etc), any Atlantic swordfish, Atlantic shark, or Atlantic billfish provided the fish is a recaptured tagged fish, a dead fish prior to being brought onboard, or specifically authorized for sampling by the Director of the Office of Sustainable Fisheries at the request of the Southeast Fisheries Science Center or Northeast Fisheries Science Center. NMFS intends to authorize collection of no more than 500 Atlantic swordfish, 225 Atlantic billfish, and 575 Atlantic sharks under at-sea observer EFPs. These are the approximate total number of billfish, swordfish, and sharks that were collected by observers under EFPs in 1999.

Collection of bluefin tuna would be authorized for scientific research. During 1999, 12 requests for Letters of Authorization and Scientific Research Permits were received for a total landing of approximately 165 bluefin tunas. Such bluefin tunas provided samples for age and growth, genetic, and spawning studies.

Comments are also sought on the issuance of EFPs to provide offloading windows in the Atlantic Swordfish fishery, in the event the swordfish fishery is closed prior to June 1, 2000, the date when the vessels must carry (64 FR 55633, October 14,1999) a vessel monitoring system (64 FR 48988, September 9, 1999) that would enable them to remain at sea after the announced closure date. It is estimated that there may be 50 swordfish applicants out of the 243 directed and 208 incidental permits that have been issued. NMFS anticipates that commercial EFP applicants would be captains of larger vessels out on extended trips at the time of a closure announcement. These applicants would benefit from delayed offloading by avoiding market gluts and cold storage problems.

NMFS is also seeking public comment on its intention to issue EFPs for the collection of restricted species of sharks for the purposes of public display. In the final Fishery Management Plan for Atlantic Tunas, Swordfish and Sharks, NMFS establish a public display quota of 60 metric tons wet weight for this purpose. NMFS has preliminarily determined that up to 3,000 sharks would be consistent with this current quota and the most recent environmental impact statement prepared for this fishery. NMFS believes that this amount will have a minimal impact on the stock. To date, requests have been submitted to NMFS for the collection of approximately 900 sharks.

The proposed collections involve activities otherwise prohibited by regulations implementing the FMPs for Atlantic Swordfish, Tunas, and Sharks and for Atlantic Billfish. The EFPs, if issued, would authorize recipients to fish for and possess tunas, billfish, swordfish and sharks outside the applicable Federal commercial seasons, size limits and retention limits, and to fish for and possess prohibited species.

NMFS intends to issue EFPs to be valid for the entire 2000 calendar year or 2000 fishing year, as appropriate for each species. A final decision on issuance of EFPs will depend on the submission of all required information, NMFS' review of public comments received on this notice, conclusions of any environmental analyses conducted pursuant to the National Environmental Policy Act, and on any consultations with any appropriate Regional Fishery Management Councils, states, or Federal agencies. NMFS does not anticipate any environmental impacts from the issuance of these EFPs other than impacts assessed in the Final Environmental Impact Statement (April, 1999).

Authority: 16 U.S.C. 971 et seq. and 16 U.S.C. 1801 et seq.

Dated: January 14, 2000.
Bruce C. Morehead, Acting Director, Office of Sustainable Fisheries, National Marine Fisheries Service.

[FR Doc. 00-1401 Filed 1-14-00; 4:59 pm]

BILLING CODE 3510-22-F